MARINE MAMMAL COMMISSION

Committee Management; Notice of Public Meeting; Advisory Committee on Acoustic Impacts on Marine Mammals

AGENCY: Marine Mammal Commission.

ACTION: Notice of advisory committee meeting.

SUMMARY: The Marine Mammal Commission (Commission) will hold the fifth meeting of its Advisory Committee on Acoustic Impacts on Marine Mammals (Committee) 19 to 21 April, 2005 in Silver Spring, Maryland.

DATES: The Committee will meet Tuesday, April 19, 2005, from 9 a.m. to 6 p.m.; Wednesday, April 20, from 8:30 a.m. to 5:15 p.m.; and Thursday, April 21, from 8:30 a.m. to 5 p.m. This meeting is open to the public. These times and the agenda topics described below are subject to change. Please refer to the Commission's Web site (www.mmc.gov) for the most up-to-date meeting information. The Committee's sixth public meeting is tentatively scheduled for 19-21 July 2005 in the Washington, DC metropolitan area. Further information on that meeting will be published in the Federal Register and posted on the Commission's Web site.

ADDRESSES: The 19-21 April meeting will be held at the Hilton Washington DC/Silver Spring Hotel, 8727 Colesville Road, Silver Spring, Maryland 20910, phone 301-589-5200, fax 301-588-1841, http://www.silverspring.hilton.com.

FOR FURTHER INFORMATION CONTACT: Erin Vos, Sound Project Manager, Marine Mammal Commission, 4340 East-West Hwy., Rm. 905, Bethesda, MD 20814, e-mail: evos@mmc.gov, tel.: 301-504-0087, fax: 301-504-0099; or visit the Commission's Web site at http://www.mmc.gov.

SUPPLEMENTARY INFORMATION: This meeting is to be held pursuant to the directive in the Omnibus Appropriations Act of 2003 (Pub. L. 108-7) that the Commission convene a conference or series of conferences to “share findings, survey acoustic ‘threats' to marine mammals, and develop means of reducing those threats while maintaining the oceans as a global highway of international commerce.” The meeting agenda includes presentations and discussions related to (1) The final draft report of the Subcommittee on Synthesis of Current Knowledge and the development of research recommendations; (2) a draft report from the Subcommittee on Management and Mitigation; (3) draft reports and recommendations from working groups on animal welfare ethics and research ethics issues; (4) criteria for developing research priorities; (5) the development of a report chapter on international efforts to reduce the impacts of anthropogenic sound on marine mammals; (6) the development of the structure and content of the Advisory Committee's final report, including recommendations; and (7) the process for endorsement of the final report. The agenda also includes two public comment sessions. Guidelines for making public comments, background documents, and the meeting agenda, including the specific times of public comment periods, will be posted on the Commission's Web site prior to the meeting. Written comments may be submitted at the meeting.

Dated: March 23, 2004.
David Cottingham,
Executive Director.

[FR Doc. 05-6053 Filed 3-25-05; 8:45 am]

BILLING CODE 6820-31-M